DEPARTMENT OF COMMERCE

National Oceanic and Atmospheric Administration

50 CFR Part 679

[Docket No. 131021878-4158-02]

RIN 0648-XD347

Fisheries of the Exclusive Economic Zone Off Alaska; Reapportionment of Halibut Prohibited Species Catch Limit in the Bering Sea and Aleutian Islands

AGENCY: National Marine Fisheries Service (NMFS), National Oceanic and Atmospheric Administration (NOAA), Commerce.

ACTION: Temporary rule.

SUMMARY: NMFS is reapportioning the projected unused amounts of the halibut prohibited species catch (PSC) limit from the Bering Sea and Aleutian Islands (BSAI) trawl limited access sector's Pacific cod fishery to the BSAI trawl limited access yellowfin sole fishery. This action is necessary to provide opportunity for harvest of the 2014 total allowable catch of yellowfin sole by the BSAI trawl limited access sector, consistent with the goals and objectives of the Fishery Management Plan for Groundfish of the Bering Sea and Aleutian Islands Management Area.

DATES: Effective 1200 hrs, Alaska local time (A.l.t.), June 25, 2014, until 2400 hrs, A.l.t., December 31, 2015.

FOR FURTHER INFORMATION CONTACT: Steve Whitney, 907-586-7269.

SUPPLEMENTARY INFORMATION: NMFS manages the groundfish fishery in the BSAI exclusive economic zone according to the Fishery Management Plan for Groundfish of the Bering Sea and Aleutian Islands Management Area (FMP) prepared by the North Pacific Fishery Management Council (Council) under authority of the Magnuson-Stevens Fishery Conservation and Management Act. Regulations governing fishing by U.S. vessels in accordance with the FMP appear at subpart H of 50 CFR part 600 and 50 CFR part 679.

In the BSAI, the halibut PSC limit apportioned as a bycatch allowance for the BSAI trawl limited access sector's Pacific cod fishery is 453 metric tons (mt) as established by the final 2014 and 2015 harvest specifications for groundfish in the BSAI (79 FR 12108, March 4, 2014).

As of June 12, 2014, the Administrator, Alaska Region, NMFS, (Regional Administrator), has determined that 60 mt of the 2014 halibut bycatch allowance for the BSAI trawl limited access sector's Pacific cod fishery will not be used. Therefore, after consultation with the Council, and in accordance with § 679.21(e)(3)(i)(B), NMFS reapportions 60 mt of halibut bycatch allowance from the BSAI trawl limited access sector's Pacific cod fishery, to the BSAI trawl limited access sector's yellowfin sole fishery. The revised 2014 halibut bycatch allowances are 393 mt for the BSAI trawl limited access sector's Pacific cod fishery and 227 mt for the BSAI trawl limited access sector's yellowfin sole fishery. Table 12 of the final 2014 and 2015 harvest specifications for groundfish in the BSAI (79 FR 12108, March 4, 2014) is revised consistent with this reapportionment.

Table 12—Final 2014 and 2015 Prohibited Species Bycatch Allowances for the BSAI Trawl Limited Access Sector
BSAI trawl limited access fisheries | Prohibited species and area ¹: 2014 Halibut mortality (mt) BSAI | Prohibited species and area ¹: 2015 Halibut mortality (mt) BSAI | Prohibited species and area ¹: Red king crab (animals) Zone 1 | Prohibited species and area ¹: C. opilio (animals) COBLZ | Prohibited species and area ¹: C. bairdi (animals): Zone 1 | Prohibited species and area ¹: C. bairdi (animals): Zone 2
Yellowfin sole | 227 | 167 | 23,338 | 3,026,465 | 346,228 | 1,185,500
Rock sole/flathead sole/other flatfish ² | 0 | 0 | 0 | 0 | 0 | 0
Turbot/arrowtooth/sablefish ³ | 0 | 0 | 0 | 0 | 0 | 0
Rockfish April 15-December 31 | 5 | 5 | 0 | 5,000 | 0 | 1,000
Pacific cod | 393 | 453 | 2,954 | 129,000 | 60,000 | 50,000
Pollock/Atka mackerel/other species ⁴ | 250 | 250 | 197 | 50,000 | 5,000 | 5,000
Total BSAI trawl limited access PSC | 875 | 875 | 26,489 | 3,210,465 | 411,228 | 1,241,500
¹ Refer to § 679.2 for definitions of areas.
² “Other flatfish” for PSC monitoring includes all flatfish species, except for halibut (a prohibited species), flathead sole, Greenland turbot, rock sole, yellowfin sole, Kamchatka flounder, and arrowtooth flounder.
³ Arrowtooth flounder for PSC monitoring includes Kamchatka flounder.
⁴ “Other species” for PSC monitoring includes skates, sculpins, sharks, squids, and octopuses.
Note: Seasonal or sector apportionments may not total precisely due to rounding.

Classification

This action responds to the best available information recently obtained from the fishery and consultation with the Council. The Assistant Administrator for Fisheries, NOAA (AA), finds good cause to waive the requirement to provide prior notice and opportunity for public comment pursuant to the authority set forth at 5 U.S.C. 553(b)(B) as such requirement is impracticable and contrary to the public interest. This requirement is impracticable and contrary to the public interest as it would prevent NMFS from responding to the most recent fisheries data in a timely fashion and would delay the reapportionment of the BSAI trawl limited access sector's halibut PSC limit. It is important to immediately inform the industry as to the reapportionment of the BSAI trawl limited access sector's halibut PSC limit. Immediate notification is necessary to allow for the orderly conduct and efficient operation of this fishery; allow the industry to plan for the fishing season and avoid potential disruption to the fishing fleet and processors. NMFS was unable to publish a notice providing time for public comment because the most recent, relevant data only became available as of June 12, 2014.

The AA also finds good cause to waive the 30-day delay in the effective date of this action under 5 U.S.C. 553(d)(3). This finding is based upon the reasons provided above for waiver of prior notice and opportunity for public comment.

This action is required by § 679.20 and is exempt from review under Executive Order 12866.

Authority: 16 U.S.C. 1801 et seq.

Dated: June 19, 2014.
Emily H. Menashes,
Acting Director, Office of Sustainable Fisheries, National Marine Fisheries Service.

[FR Doc. 2014-14735 Filed 6-24-14; 8:45 am]

BILLING CODE 3510-22-P